DEPARTMENT OF TRANSPORTATION

Federal Highway Administration

Notice of Availability of the Final Environmental Impact Statement: Los Angeles County, CA

AGENCY: Federal Highway Administration (FHWA), DOT.

ACTION: Notice of Availability of the Final Environmental Impact Statement.

SUMMARY: The FHWA, on behalf of the California Department of Transportation (Caltrans), announces the availability of the Final Environmental Impact Statement for the 6th Street Viaduct Seismic Improvement Project in Los Angeles County, California.

DATES: The comment period for the 6th Street Viaduct Seismic Improvement Project will end 30 days after publication of the NOA in the Federal Register.

ADDRESSES: A hard copy of the document may be viewed at the following locations:

• City of Los Angeles Bureau of Engineering, Bridge Improvement Program, 1149 South Broadway, Suite 750, Los Angeles, CA 90015

• Caltrans, District 7, 100 S Main St, Los Angeles CA 90012

• Benjamin Franklin City Library, 2200 E 1st St., Los Angeles, CA 90033

• Little Tokyo Branch City Library, 244 S. Alameda St., Los Angeles, CA 90012

• Los Angeles City Council District 14, 1870 E 1st Street, Los Angeles, CA 90033

The report can also be accessed through the project Web site at http://www.la6thstreetviaduct.org; City Web site at http://eng.lacity.org/techdocs/emg/Environmental_Review_Documents.htm; and Caltrans Web site at http://www.dot.ca.gov/dist07/resources/envdocs/.

FOR FURTHER INFORMATION CONTACT: Carlos J. Montez, Branch Chief, Division of Environmental Planning, Caltrans District 7, 100 S. Main Street, Los Angeles, CA 90012, Telephone: (213) 897-9116.

SUPPLEMENTARY INFORMATION: Effective July 1, 2007, the Federal Highway Administration (FHWA) assigned, and the California Department of Transportation (Caltrans) assumed, environmental responsibilities for this project pursuant to 23 U.S.C. 327. Caltrans as the delegated National Environmental Policy Act (NEPA) agency has prepared a Final EIS on a proposal for 6th Street Viaduct Seismic Improvement project in Los Angeles County, California.

The City of Los Angeles (City) and the California Department of Transportation (Caltrans) propose to undertake the seismic improvement of the 6th Street Viaduct over the Los Angeles River (Bridge No. 53C-1880) and the 6th Street Overcrossing, which spans the US 101 Hollywood Freeway (Bridge No. 53-0595). These two bridges comprise a single structure—the 6th Street Viaduct. The project limits would extend along 6th Street from west of southbound (SB) Interstate 5 (I-5) on the east side of the Los Angeles River to Mill Street on the west side of the river.

The project alternatives consist of two Build Alternatives (Alternative 2, Viaduct Retrofit; Alternative 3, Viaduct Replacement) and one No Action Alternative (Alternative 1). Alternative 3, Viaduct Replacement, has been selected as the Preferred Alternative. Under the replacement alternative, the proposed project would correct geometric design and structural detailing deficiencies of the existing viaduct by constructing the replacement to current standards set forth by American Association of State Highway and Transportation officials (AASHTO) and the City of Los Angeles Department of Transportation (LADOT).

(Catalog of Federal Domestic Assistance Program Number 20.205, Highway Planning and Construction. The regulations implementing Executive Order 12372 regarding intergovernmental consultation on Federal programs and activities apply to this program.)

Issued on: October 18, 2011.
Jacob Waclaw,
Senior Transportation Engineer, Federal Highway Administration, Los Angeles, California.

[FR Doc. 2011-27692 Filed 10-27-11; 8:45 am]

BILLING CODE 4910-22-P